NATIONAL AREONAUTICS AND SPACE ADMINISTRATION

[Notice 02-126]

NASA Advisory Council, Earth Science Information Systems and Services Subcommittee; Meeting

AGENCY: National Aeronautics and Space Administration (NASA).

ACTION: Notice of meeting.

SUMMARY: In accordance with the Federal Advisory Committee Act, Public Law 92-463, as amended, the National Aeronautics and Space Administration announces a meeting of the NASA Advisory Council (NAC), Earth Systems Science and Applications Advisory Committee (ESSAAC).

DATES: Wednesday, October 30, 2002, 8:30 a.m. to 5:30 p.m.; and Thursday, October 31, 2002, 8:30 a.m. to 1 p.m.

ADDRESSES: Holiday Inn Capitol, Saturn and Venus Rooms, 500 C Street SW., Washington, DC 20003.

FOR FURTHER INFORMATION CONTACT: Ms. Martha Maiden, Code YF, National Aeronautics and Space Administration, Washington, DC 20546, 202/358-1078.

SUPPLEMENTARY INFORMATION: The meeting will be open to the public up to the seating capacity of the room. The agenda for the meeting is as follows:

—Welcome and Introductory Comments

—Earth Science Enterprise (ESE) Strategic Thinking

—ESE Budget Overview

—Data Implementation Roadmap

—Strategic Evolution of ESE Data Systems (SEEDS) Status

—Earth Observation System (EOS) Science Operations and Development Status

—Earth Observation System Data and Information System (EOSDIS) Maintenance and Development (EMD) Procurement Status

—Development of Main Points and Concerns

—Summary of first day/Recommendations Items

—General Discussion

—Long-term Archive (LTA) Introduction

—National Oceanic and Atmospheric Administration (NOAA) Class Plans and Development Status

—US Geological Survey (USGS) Eros Data Center (EDC) and Land Processes LTA

—Other reports

—Finalize Recommendations/Closing Remarks

It is imperative that the meeting be held on these dates to accommodate the scheduling priorities of the key participants. Visitors will be requested to sign a visitor's register.

June W. Edwards,
Advisory Committee Management Officer, National Aeronautics and Space Administration.

[FR Doc. 02-27265 Filed 10-24-02; 8:45 am]

BILLING CODE 7510-01-P